FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date reissued
004268F | J & S Universal Services, Inc. dba Patrick & Rosenfeld Shipping Corp., 12972 S.W. 133 Court, Suite A, Miami, FL 33186 | October 30, 2005.
004553F | Marianas Steamship Agencies, Inc., P.O. Box 3219, Agana, Guam 96932 | July 14, 2005.

Peter J. King,
Deputy Director, Bureau of Certification and Licensing.

[FR Doc. E6-2891 Filed 2-28-06; 8:45 am]

BILLING CODE 6730-01-P